DEPARTMENT OF COMMERCE

International Trade Administration

19 CFR Part 351

Scope Ruling Application; Annual Inquiry Service List; and Informational Sessions

AGENCY: Enforcement and Compliance, International Trade Administration, Department of Commerce.

ACTION: Notification and guidance.

SUMMARY: On September 20, 2021, the Department of Commerce (Commerce) published the final rule entitled “Regulations to Improve Administration and Enforcement of Antidumping and Countervailing Duty Laws” in the Federal Register (Final Rule). In the Final Rule, Commerce explained that it would make available an application for parties to fill out and submit to request a scope inquiry and ruling and that it would provide additional instruction on the procedures for the annual inquiry service list, as appropriate. This document provides further information on the availability of the scope ruling application through Commerce's website and the additional procedures to request placement on the annual inquiry service list. In addition, Commerce is notifying the public that it intends to place additional information on its website and hold informational sessions on the Final Rule.

DATES: Effective September 27, 2021. See SUPPLEMENTARY INFORMATION for further information on relevant dates for the annual inquiry service list.

FOR FURTHER INFORMATION CONTACT: Any questions related to the annual inquiry service list should be submitted to the APO/Dockets Unit (Attention: Evangeline Keenan) at (202) 482-4920 or APOSupport@trade.gov. Electronic filing questions should be submitted to access@trade.gov. For all other questions regarding the Final Rule, please contact the Enforcement & Compliance Communications office (Attention: Dana Moreland) at (202) 482-0063 or ECCommunications@trade.gov.

SUPPLEMENTARY INFORMATION:

Background

On August 13, 2020, Commerce published proposed amendments to its existing regulations, 19 CFR part 351, to strengthen and improve the administration and enforcement of the antidumping and countervailing duty laws.¹ On September 20, 2021, Commerce published the Final Rule.² In the Final Rule, Commerce established revised regulations (19 CFR 351.225) which describe the applicable procedures and standards concerning scope inquiries and scope rulings regarding whether a product is covered by the scope of a particular antidumping or countervailing duty order. In addition, Commerce established new regulations for circumvention inquiries conducted under section 781 of the Tariff Act of 1930, as amended (the Act) (new 19 CFR 351.226).

¹ Regulations to Improve Administration and Enforcement of Antidumping and Countervailing Duty Laws, 85 FR 49472 (August 13, 2020) (Proposed Rule).

² See Regulations to Improve Administration and Enforcement of Antidumping and Countervailing Duty Laws, 86 FR 52300 (September 20, 2021) (Final Rule).

Scope Ruling Application

Revised section 351.225(c) details the procedures and requirements for an interested party to fill out and submit a scope ruling application, and further provides that Commerce will make a scope ruling application available to the public. In accordance with revised section 351.225(d), if a completed scope ruling application is accepted, Commerce will initiate a scope inquiry.

Commerce is notifying parties that the scope ruling application may be found at https://www.trade.gov/review-or-submit-adcvd-proceedings-documents or https://access.trade.gov/Resources/ADCVD_Resources.aspx.

Annual Inquiry Service List

Revised § 351.225(c) and (n)(1) provide that an interested party that submits a scope ruling application must serve a copy of the application on all persons on the annual inquiry service list for that order, as well as any companion order covering the same merchandise from the same country of origin, as described in revised section 351.225(m)(2). Revised § 351.225(n)(2) and (3) describe the procedures for the “annual inquiry service list,” discussed further below. Similarly, new § 351.226(c) and (n)(1) state that an interested party that submits a request for a circumvention inquiry must serve a copy of the request on all persons on the annual inquiry service list for that order, as well as any companion order covering the same merchandise from the same country of origin, as described in new § 351.226(m)(2). Lastly, revised section 351.225(n)(4) and new § 351.226(n)(2) provide that once a scope or circumvention inquiry has been initiated, a segment-specific service list will be established.

As discussed in the Final Rule, Commerce is notifying parties of the initial procedures for the establishment of the annual inquiry service list for each antidumping and countervailing duty order.³ Upon publication of this document, Commerce will begin to create an annual inquiry service list for each active antidumping and countervailing duty order and suspended investigation in its online e-filing and document management system, Antidumping and Countervailing Duty Electronic Service System (ACCESS), available at https://access.trade.gov. Each annual inquiry service list will be saved in ACCESS, under each case number, and under a specific segment type called “AISL-Annual Inquiry Service List.” ⁴

³ See Final Rule, 86 FR 52300 at 52335 (stating that, after the Final Rule's publication, Commerce “intends to provide additional instruction to interested parties on the procedures for the annual inquiry service list, as appropriate.”)

⁴ This segment will be combined with the ACCESS Segment Specific Information (SSI) field which will display the month in which the notice of the order or suspended investigation was published in the Federal Register, also known as the anniversary month. For example, for an order under case number A-000-000 which was published in the Federal Register in January, the relevant segment and SSI combination will appear in ACCESS as “AISL-January Anniversary.” Note that there will be only one annual inquiry service list segment per case number, and the anniversary month will be pre-populated in ACCESS.

Establishment of the Annual Inquiry Service Lists

Beginning September 27, 2021, and until October 27, 2021, an interested party may request to be added to the annual inquiry service list by submitting in ACCESS an entry of appearance in the annual inquiry service list segment of any order in which it qualifies as an interested party under 19 CFR 351.102(b)(2)(i) through (ix). Instructions on how to submit an entry of appearance are available at https://access.trade.gov/help/Rel_4_External_User_Guide.pdf. No later than November 4, 2021 (the effective date of the Final Rule for 19 CFR 351.225 (scope) and 19 CFR 351.226 (circumvention)), Commerce will generate an annual inquiry service list for each order and suspended investigation based on the entries of appearance submitted by the interested parties. As discussed further below, to be included in the initial creation of the annual inquiry service list, all interested parties, including petitioners and governments of foreign countries must follow these procedures and submit an initial entry of appearance.

Annual Updates to the Annual Inquiry Service Lists

After the initial creation of the annual inquiry service lists for all active orders and suspended investigations, Commerce will update each annual inquiry service list on an annual basis beginning January 2022. Each year during the anniversary month of an order or suspended investigation, Commerce will include in the monthly Notice of Opportunity to Request Administrative Review published in the Federal Register (Opportunity Notice), a notification to all interested parties of their opportunity to submit an entry of appearance to be placed on the annual inquiry service list for those orders included in that month's Opportunity Notice. Any interested party that did not previously appear on the annual inquiry service list can submit a new entry of appearance at this time.

In accordance with 19 CFR 351.225(n)(3), with the exception of petitioners and foreign governments (discussed below), all interested parties who previously appeared on an annual inquiry service list and wish to appear on the list for the next year will need to submit an amended entry of appearance in ACCESS after the Opportunity Notice publishes. Commerce will change the status of all entries of appearance filed in ACCESS during the initial creation of the annual inquiry service list from “Active” to “Needs Amendment.” Each interested party may take this opportunity to make any necessary amendments (e.g., changes to client list, lead attorney or contact person) at this time. If no amendments are needed, but the interested party wishes to be added to the list for the next year, it must indicate in the electronic entry of appearance form that it is renewing its request to be added to the annual inquiry service list for the next year, and then submit it. At that time, the status will be changed to “In Progress.” When Commerce approves the amended entry of appearance, it will change the status to “Active” and add the interested party to the annual inquiry service list.

Similar to the deadlines to submit requests for administrative review set out in the Opportunity Notice, interested parties will have until the last day of the anniversary month to submit a new entry of appearance for the annual inquiry service list or to amend its existing entry of appearance to be included in the new annual inquiry service list. If an interested party does not amend or resubmit its existing entry of appearance, the status will be set to “Inactive,” and the interested party will be omitted from the annual inquiry service list for the next year. No later than five business days after the last day of the anniversary month, Commerce will update the annual inquiry service lists for all orders included in the Opportunity Notice.

Special Instructions for Petitioners and Foreign Governments

In the Final Rule, Commerce stated that, “after an initial request and placement on the annual inquiry service list, both petitioners and foreign governments will automatically be placed on the annual inquiry service list in the years that follow.” ⁵ Accordingly, as stated above, petitioners and foreign governments should submit their initial entry of appearance after publication of this notice in order to appear in the first annual inquiry service list for those orders for which they qualify as an interested party. Pursuant to 19 CFR 351.225(n)(3), petitioners and foreign governments will not need to resubmit their entries of appearance each year to continue to be included on the annual inquiry service. However, petitioners and foreign governments are responsible for making amendments to their entries of appearance during the annual update to the annual inquiry service list in accordance with the procedures described above.

⁵ Id., 86 FR 52300 at 52335-36 (“Commerce intends to provide additional instruction to interested parties on the procedures for the annual inquiry service list, as appropriate, with special instructions for petitioners and foreign governments. Specifically, once the petitioners and foreign governments have submitted their initial requests to be added to the first annual inquiry service list for a given proceeding, it is reasonable to automatically add them in each subsequent year to the list when the annual service list for the proceeding is updated. To be clear, the first time a petitioner or foreign government wishes to be included on an annual inquiry service list, it will be incumbent upon the petitioner or foreign government to request Commerce to include them on the list. However, after that first time, inclusion for them will be automatic. Additionally, after initial inclusion on the annual inquiry service list, it is also incumbent upon the petitioner or foreign government to notify Commerce of any changes to its information.”)

Other Information

For new orders and suspended investigations whose Federal Register notices are published after the date of this document, Commerce will create an annual inquiry service list segment in ACCESS within five business days of publication of the notice of order or suspended investigation. Interested parties will have 30 days after the date of publication to submit an entry of appearance to be added to the new annual inquiry service list, and Commerce will finalize the annual inquiry service list within five business days thereafter. As mentioned above, these new lists will be updated the next year, when the Opportunity Notice for the relevant anniversary month is published, as described above.

Commerce may update an annual inquiry service list at any time as needed based on interested parties' amendments to their entries of appearance to remove interested parties or to update contact information. Any changes or announcements pertaining to these procedures will be posted to the ACCESS website at https://access.trade.gov.

Parties are also reminded that the procedures detailed above only pertain to the annual inquiry service list described in revised § 351.225(n) and new § 351.226(n). There are separate procedures for segment-specific service lists for scope and circumvention inquiries. Segment-specific service lists are established and revised as parties file their entries of appearance in that segment. These procedures are detailed in revised § 351.103(d), revised § 351.225(n)(4) (scope), and new § 351.226(n)(2) (circumvention).

Informational Sessions

E&C's website at https://www.trade.gov/2021-adcvd-regulations-update will contain additional information regarding the Final Rule. In addition, the website will provide information on dates and times of informational sessions regarding the Final Rule which Commerce intends to provide to the public, as well as information on how to register for, and participate in, those informational sessions. Whether the sessions are virtual or in person, there will be a limited number of spots available for participation. Therefore, the public should review the information set forth on the website regarding availability.

Dated: September 1, 2021.
Christian Marsh,
Acting Assistant Secretary for Enforcement and Compliance.

[FR Doc. 2021-19443 Filed 9-24-21; 8:45 am]

BILLING CODE 3510-DS-P